UNIFIED CARRIER REGISTRATION PLAN

Sunshine Act Meetings—Notice of Cancellation

The Unified Carrier Registration Plan Enforcement Subcommittee has cancelled the virtual subcommittee meeting previously scheduled for December 4, 2023, 12:00 p.m. to 3:00 p.m., Eastern time.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-26999 Filed 12-5-23; 4:15 pm]

BILLING CODE 4910-YL-P